DEPARTMENT OF HOMELAND SECURITY

Coast Guard

33 CFR Part 117

[Docket No. USCG-2015-0736]

Drawbridge Operation Regulations; Atlantic Intracoastal Waterway, Atlantic City, NJ

AGENCY: Coast Guard, DHS.

ACTION: Notice of deviation from drawbridge regulations.

SUMMARY: The Coast Guard has issued a temporary deviation from the operating schedules that govern the Route 30 (Absecon Boulevard) Bridge across the Beach Thorofare, Atlantic Intracoastal Waterway, mile 67.2, at Atlantic City, NJ and US40-322 (North Albany Avenue) Bridge across the Inside Thorofare, Atlantic Intracoastal Waterway, mile 70.0, at Atlantic City, NJ. This deviation is necessary to facilitate the 2015 Atlantic City Air Show. This deviation allows the bridges to remain in the closed-to-navigation position.

DATES: This deviation is effective from 7:30 a.m. to 10:30 a.m. and 4 p.m. to 8 p.m. on September 2, 2015.

ADDRESSES: The docket for this deviation, [USCG-2015-0736], is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Hal R. Pitts, Bridge Administration Branch Fifth District, Coast Guard; telephone (757) 398-6222, email Hal.R.Pitts@uscg.mil. If you have questions on viewing the docket, call Cheryl Collins, Program Manager, Docket Operations, telephone 202-366-9826.

SUPPLEMENTARY INFORMATION: The New Jersey Department of Transportation, who owns and operates the Route 30 (Absecon Boulevard) Bridge and US40-322 (North Albany Avenue) Bridge, has requested a temporary deviation from the current operating regulations set out in 33 CFR 117.733(e) and (f), respectively, to facilitate the 2015 Atlantic City Air Show.

Under the normal operating schedule for the Route 30 (Absecon Boulevard) Bridge across the Beach Thorofare, Atlantic Intracoastal Waterway, mile 67.2, at Atlantic City, NJ in 33 CFR 117.733(e); the bridge need only open on the hour from 7 a.m. to 11 p.m., from April 1 through October 31. Under the normal operating schedule for the US40-322 (North Albany Avenue) Bridge across the Inside Thorofare, Atlantic Intracoastal Waterway, mile 70.0, at Atlantic City, NJ in 33 CFR 117.733(f); the draw shall open on signal; except that, from June 1 through September 30 from 9 a.m. to 4 p.m. and from 6 p.m. to 9 p.m., the draw need only open on the hour and half hour, and from 4 p.m. to 6 p.m., the draw need not open. The vertical clearances in the closed-to-navigation position of the Route 30 (Absecon Boulevard) Bridge and US40-322 (North Albany Avenue) Bridge are 20 feet and 10 feet, respectively, above mean high water.

Under this temporary deviation, the bridges will be closed to navigation from 7:30 a.m. to 10:30 a.m. and 4 p.m. to 8 p.m. on September 2, 2015. The Atlantic Intracoastal Waterway is used by a variety of vessels including small commercial fishing vessels, recreational vessels and tug and barge traffic. The Coast Guard has carefully coordinated the restrictions with commercial and recreational waterway users.

Vessels able to pass through the bridges in the closed position may do so at anytime. The bridges will be able to open for emergencies and there is no alternate route for vessels unable to pass through the bridges in the closed position. The Coast Guard will also inform the users of the waterways through our Local and Broadcast Notice to Mariners of the change in operating schedules for these bridges so that vessels can arrange their transits to minimize any impacts caused by this temporary deviation.

In accordance with 33 CFR 117.35(e), the drawbridges must return to their regular operating schedules immediately at the end of the effective period of this temporary deviation. This deviation from the operating regulations is authorized under 33 CFR 117.35.

Dated: August 5, 2015.
Hal R. Pitts,
Bridge Program Manager, Fifth Coast Guard District.

[FR Doc. 2015-19561 Filed 8-7-15; 8:45 am]

BILLING CODE 9110-04-P